DEPARTMENT OF THE INTERIOR

Bureau of Indian Affairs

Indian Gaming

AGENCY: Bureau of Indian Affairs, Interior.

ACTION: Notice of Approved Tribal-State Compact.

SUMMARY: This notice publishes approval of the State of Oklahoma Cherokee Nation Off-Track Wagering Compact.

DATES: Effective Date: October 5, 2010.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Compact authorizes the Cherokee Nation of Oklahoma to engage in off-track wagering.

Dated: September 23, 2010.
Larry Echo Hawk,
Assistant Secretary—Indian Affairs.

[FR Doc. 2010-25005 Filed 10-4-10; 8:45 am]

BILLING CODE 4310-4N-P